DEPARTMENT OF HEALTH AND HUMAN SERVICES

National Institutes of Health

Chairpersons, Boards of Scientific Counselors for Institutes and Centers at the National Institutes of Health; Notice of Meeting

Notice is hereby given of the meeting scheduled by the Deputy Director for Intramural Research at the National Institutes of Health (NIH) with the Chairpersons of the Boards of Scientific Counselors. The Boards of Scientific Counselors are advisory groups to the Scientific Directors of the Intramural Research Programs at the NIH. This meeting will take place on October 2, 2009 from 10 a.m. to 2 p.m., at the NIH, 9000 Rockville Pike, Bethesda, MD, Building 1, Room 151. The meeting will include a discussion of policies and procedures that apply to the regular review of NIH intramural scientists and their research.

The meeting is open to the public, with attendance limited to space available. Individuals who plan to attend and need special assistance, such as sign language interpretation or other reasonable accommodations, should contact Jackie Roberts at the Office of Intramural Research, NIH, Building 1, Room 160, telephone 301-496-1921, or FAX 301-402-4273, in advance of the meeting.

Dated: September 22, 2009.
Michael Gottesman,
Deputy Director for Intramural Research, National Institutes of Health.

[FR Doc. E9-23536 Filed 9-29-09; 8:45 am]

BILLING CODE 4140-01-P